DEPARTMENT OF COMMERCE

National Oceanic and Atmospheric Administration

50 CFR Part 622

[I.D. 012604A]

Fisheries of the Caribbean, Gulf of Mexico, and South Atlantic; Gulf of Mexico Fishery Management Council; Public Scoping Meetings

AGENCY: National Marine Fisheries Service (NMFS), National Oceanic and Atmospheric Administration (NOAA), Commerce.

ACTION: Notice of scoping meetings; request for comments.

SUMMARY: The Gulf of Mexico Fishery Management Council (Council) intends to consider alternatives for developing a Generic Amendment for Offshore Marine Aquaculture. In accordance with the National Environmental Policy Act of 1969, the Council has prepared a scoping document, and has scheduled a series of scoping meetings to solicit public input regarding these alternatives. Based on the range of alternatives and issues identified during the scoping process, the Council may be required to develop a Draft Supplemental Environmental Impact Statement (DSEIS).

DATES: The scoping meetings will be held in February and March 2004. See SUPPLEMENTARY INFORMATION for specific dates, times, and locations. Public comments on the scoping document for a Generic Amendment for Offshore Marine Aquaculture should be received in the Council office by 5 p.m. Eastern Standard Time, March 5, 2004, to ensure consideration by the Council.

ADDRESSES: Written comments on, and requests for, the scoping document should be addressed to the Gulf of Mexico Fishery Management Council, 3018 U.S. North Highway 301, Suite 1000, Tampa, FL 33619; telephone: (813) 228-2815.

FOR FURTHER INFORMATION CONTACT: Mr. Wayne Swingle, Executive Director, Gulf of Mexico Fishery Management Council; telephone: (813) 228-2815 ext. 230.

SUPPLEMENTARY INFORMATION: The Council announces a series of public scoping meetings to solicit input from interested parties on the provisions of the Scoping document for Generic Amendment for Offshore Marine Aquaculture. The scoping document: (1) Summarizes existing Federal statutes, programs, and rules that apply to marine aquaculture of fish and marine organisms in the Federal waters of the Exclusive Economic Zone; (2) lists fishery stocks that may be cultured in marine aquaculture programs carried out under the amendment; (3) discusses the environmental impact and other effects of various marine aquaculture practices to provide a background for selecting alternatives for the best management practices (BMP) for regulating the marine aquaculture process; and (4) sets forth a broad range of management alternatives for public consideration in selecting the best management practices (BMP) possible Copies of the scoping document will be available at the meetings and are available prior to the meetings from the Council (see ADDRESSES).

In accordance with NOAA Administrative Order 216-6, Section 5.02(c), the Council has identified this preliminary range of alternatives as a means to initiate discussion for scoping purposes only. This may not represent the full range of alternatives that eventually will be evaluated by the Council. Depending on the range of alternatives and issues identified during the scoping process, the Council may prepare an Environmental Assessment, with a Finding of No Significant Impact in association with the proposed actions. Should significant issues be identified in regard to the proposed actions, NMFS would publish a Notice of Intent to prepare a DSEIS.

Times and Locations of Scoping Meetings

The scoping meetings will be held at the following locations and dates immediately following the scoping hearings for a Generic Limited Access Amendment (noticed separately) that will begin at 6 p.m. and conclude by 10 p.m.

1. Tuesday, February 17, 2004, Adams Mark Hotel and Resort, 64 South Water Street, Mobile, AL 36602; telephone: 251-438-4000;

2. Wednesday, February 18, 2004, J.L. Scott Marine Education Center and Aquarium, 115 Beach Boulevard, Biloxi, MS 39530; telephone: 228-374-5550;

3. Thursday, February 19, 2004, Larose Regional Park, 2001 East 5th Street, Larose, LA 70373; telephone: 504-693-7355;

4. Monday, February 23, 2004, Holiday Inn Emerald Beach, 1102 South Shoreline Boulevard, Corpus Christi, TX 78401; telephone: 361-883-5731;

5. Tuesday, February 24, 2004, Moody Gardens Hotel, 7 Hope Boulevard, Galveston, TX 77554; telephone: 409-741-8484;

6. Wednesday, February 25, 2004, National Marine Fisheries Service, Panama City Laboratory, 3500 Delwood Beach Road, Panama City, FL 32408; telephone: 850-234-6541 ext. 201;

7. Thursday, February 26, 2004, Madeira Beach City Hall Auditorium, 300 Municipal Drive, Madeira Beach, FL 33708; telephone: 727-391-9951; and

8. Monday, March 1, 2004, Holiday Inn Beachside, 3841 North Roosevelt Boulevard, Key West, FL 33040; telephone: 305-294-2571.

Special Accommodations

These meetings are physically accessible to people with disabilities. Requests for sign language interpretation or other auxiliary aids should be directed to Trish Kennedy at the Council (see ADDRESSES) by February 13, 2004.

Dated: February 9, 2004.
Bruce C. Morehead,
Acting Director, Office of Sustainable Fisheries, National Marine Fisheries Service.

[FR Doc. 04-3283 Filed 2-12-04; 8:45 am]

BILLING CODE 3510-22-S